DEPARTMENT OF THE INTERIOR

U.S. Geological Survey

Patent, Trademark & Copyright Acts

AGENCY: U.S. Geological Survey.

ACTION: Notice of prospective intent to award exclusive license.

SUMMARY: The United States Geological Survey (USGS) is contemplating awarding an exclusive license to: Geovision Solutions, Inc., 1410 Gunston Road, Bel Air, Maryland 21015 on U.S. Patent Application Serial No. 09/877,786, entitled “Integrated Method for Disseminating Large Spatial Data Sets in a Distrubuted Form Via the Internet.”

Inquiries: If other parties are interested in similar activities, or have comments related to the prospective award, please contact Neil Mark, USGS, 12201 Sunrise Valley Drive, MS 201, Reston, Virginia 20192, voice (703) 648-4344, fax (703) 648-7219, or e-mail nmark@usgs.gov.

SUPPLEMENTARY INFORMATION: This notice is submitted to meet the requirements of 35 U.S.C. 208 et seq.

Dated: May 20, 2005.
Patricia P. Dunham,
Deputy Chief, Office of Administrative Policy and Services.

[FR Doc. 05-11067 Filed 6-2-05; 8:45 am]

BILLING CODE 4310-Y7-M